ENVIRONMENTAL PROTECTION AGENCY

[OPPTS-51984; FRL-6826-9]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from January 24, 2002 to February 12, 2002, consists of the PMNs pending or expired, and the notices of commencement to manufacture a new chemical that the Agency has received under TSCA section 5 during this time period. This notice also includes a correction for a PMN from March 29, 2000. The “S” and “G” that precede the chemical names denote whether the chemical idenity is specific or generic.

DATES: Comments identified by the docket control number OPPTS-51984 and the specific PMN number, must be received on or before April 18, 2002.

ADDRESSES: Comments may be submitted by mail, electronically, or in person. Please follow the detailed instructions for each method as provided in Unit I. of the SUPPLEMENTARY INFORMATION. To ensure proper receipt by EPA, it is imperative that you identify docket control number OPPTS-51984 and the specific PMN number in the subject line on the first page of your response.

FOR FURTHER INFORMATION CONTACT: Barbara Cunningham, Acting Director, Environmental Assistance Division, Office of Pollution Prevention and Toxics (7408M), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations”,” Regulations and Proposed Rules, and then look up the entry for this document under the “Federal Register—Environmental Documents.” You can also go directly to the Federal Register listings at http://www.epa.gov/fedrgstr/.

2. In person. The Agency has established an official record for this action under docket control number OPPTS-51984. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, any test data submitted by the Manufacturer/Importer is available for inspection in the TSCA Nonconfidential Information Center, North East Mall Rm. B- 607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51984 and the specific PMN number in the subject line on the first page of your response.

1. By mail. Submit your comments to: Document Control Office (7407M), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51984 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from January 24, 2002 to February 12, 2002, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available. This notice also includes a correction for PMN P-00-0685, from March 29, 2000, which corrects the Chemical Name. The “S” and “G” that precede the chemical names denote whether the chemical idenity is specific or generic.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 65 Premanufacture Notices Received From: 01/24/02 to 02/12/02
Case No. | Received Date | Projected Notice End Date | Manufacturer/Importer | Use | Chemical
P-00-0685 | 03/29/00 | 06/27/00 | CBI | (G) Additive for plastics | (G) Butadiene, alkylacrylate, alkyl methacrylate, co-polymer
P-02-0285 | 01/23/02 | 04/23/02 | R. T. Vanderbilt Company, Inc. | (S) Functional filler for polymer systems | (S) Silane, trimethoxy[3-oriranylmethoxy]propyl-, reaction products with wollastonite (ca(sio3)
P-02-0286 | 01/23/02 | 04/23/02 | CIBA Specialty Chemicals Corporation, textile effects | (G) Textile dye | (G) Naphthalenedisulfonic acid, amino halo alkyl sulfonyl alkyl amino-1,3,5-triazin sulfophenyl azo hydroxy substituted phenyl azo sodium salt
P-02-0287 | 01/23/02 | 04/23/02 | BASF Corporation | (S) Processing aid for leather tanning | (G) Ethoylated alkyl alcohol
P-02-0288 | 01/23/02 | 04/23/02 | CBI | (G) Dehydration and demulsification agent | (G) Alkoxylated fatty acid esters
P-02-0289 | 01/23/02 | 04/23/02 | UBE America Inc. | (S) Raw material of polyurethane | (S) Carbonic acid, dimethyl ester, polymer with 1,4-cyclohexanedimethanol and 1,6-hexanediol
P-02-0290 | 01/24/02 | 04/24/02 | PRC-Desoto International,PPG Industries Company | (S) Polymer for Adhesives and sealants | (G) Alkoxysilane terminated polyurethane polymer
P-02-0291 | 01/24/02 | 04/24/02 | Sony Magnetic Products Inc. of America | (G) Binder resin | (S) Peroxydisulfuric acid ([ho)s(o) subscript 2] subscript 2 o subscript 2), dipotassium salt, reaction products with 2-(2-propenyloxy)ethanol-[(2-propenyloxy)methyl]oxirane-vinyl chloride polymer
P-02-0292 | 01/24/02 | 04/24/02 | CBI | (G) Component of lubricating composition for finishing product of fiber and yarn | (G) Fatty acid, polyoxyethylene-alkyl ether, ester
P-02-0293 | 01/23/02 | 04/23/02 | CBI | (G) Open, non-dispersive use. | (G) Acrylic polymer
P-02-0294 | 01/23/02 | 04/23/02 | 3D Systems, Inc. | (G) Printing ink stabilizer | (G) Urethane wax
P-02-0295 | 01/23/02 | 04/23/02 | 3D Systems, Inc. | (G) Printing ink stabilizer | (G) Urethane wax
P-02-0296 | 01/23/02 | 04/23/02 | 3D Systems, Inc. | (G) Printing ink stabilizer | (G) Urethane wax
P-02-0297 | 01/24/02 | 04/24/02 | CBI | (S) Binder for nonwovens | (G) Functionalized styrene-butadiene-acrylonitrile copolymer
P-02-0298 | 01/25/02 | 04/25/02 | Westvaco Corporation - Chemical Division | (S) Component in asphalt emulsifier | (G) Glycerides, animal, reaction products with polyamines
P-02-0299 | 01/24/02 | 04/24/02 | CBC (America) Corporation | (S) Adhesive resin for adhesive tape to be used in the process of paper manufacturing | (S) 2-propenoic acid, polymer with ethyl 2-propenoate, potassium salt
P-02-0300 | 01/25/02 | 04/25/02 | Westvaco Corporation - Chemical Division | (S) Asphalt emulsifier salt | (G) Glycerides, animal, reaction products with polyamines, hydrochlorides
P-02-0301 | 01/25/02 | 04/25/02 | E.I. Du pont De Nemours and Company - Dupont Nylon | (S) Polyurethane monomer; polyester monomer; fragrance intermediate | (S) 1,4-cyclododecanediol
P-02-0302 | 01/25/02 | 04/25/02 | E.I. Du pont De Nemours and Company - Dupont Nylon | (S) Polyurethane monomer; polyester monomer; fragrance intermediate | (S) 1,5-cyclododecanediol
P-02-0303 | 01/25/02 | 04/25/02 | E.I. Du pont De Nemours and Company - Dupont Nylon | (S) Polyurethane monomer; polyester monomer; fragrance intermediate | (S) 1,6-cyclododecanediol
P-02-0304 | 01/25/02 | 04/25/02 | E.I. Du pont De Nemours and Company - Dupont Nylon | (S) Polyester monomer; fragrance intermediate; polyurethane monomer | (S) 1,12-dodecanediol
P-02-0305 | 01/29/02 | 04/29/02 | Clariant ISM (America) Inc. | (S) Intermediate for manufacture of photo developing chemicals | (G) Benzyl ethoxy imidazoldine derivative
P-02-0306 | 01/28/02 | 04/28/02 | Lamberti USA, Inc. | (S) Photoinitiator for uv-curable pigmented inks; photoinitiator for photoresists, optical fibers and printing plates; photoinitiator for uv-curable powder coatings; photoinitiator for uv-curable adhesives and other coatings; open/non-dispersive use | (S) 1-propanone, 1-[4-[(4-benzoylphenyl)thio]phenyl]-2-methyl-2-[(4-methylphenyl)sulfonyl]-
P-02-0307 | 01/29/02 | 04/29/02 | Clariant LSM (America) Inc. | (S) Intermediate for production of photo development chemicals | (G) Bromo m anilide ester derivative
P-02-0308 | 01/29/02 | 04/29/02 | Clariant LSM (America) Inc. | (S) Photo chemical intermediate | (G) Hydantoinyl m-anilide ester
P-02-0309 | 01/29/02 | 04/29/02 | Clariant LSM (America) Inc. | (S) Raw material for manufacture of photo development chemicals | (G) Benzoic acid ester derivative
P-02-0310 | 01/31/02 | 05/01/02 | CBI | (G) Open, non-dispersive (resin) | (G) Aliphatic polyisocyanate
P-02-0311 | 01/31/02 | 05/01/02 | NOF America Corporation | (G) Impact modifier for use in engineering plastics | (G) Acrylic copolymer
P-02-0312 | 01/31/02 | 05/01/02 | Eastman Chemical Company | (S) Size for processing textile fibers | (G) Poly(ester-ether)
P-02-0313 | 01/31/02 | 05/01/02 | Eastman Chemical Company | (S) Size for processing textile fibers | (G) Poly(ester-ether)
P-02-0314 | 01/31/02 | 05/01/02 | Eastman Chemical Company | (S) Size for processing textile fibers | (G) Poly(ester-ether)
P-02-0315 | 01/31/02 | 05/01/02 | CBI | (G) Open, non-dispersive (resin) | (G) Aliphatic urethane acrylate
P-02-0316 | 01/31/02 | 05/01/02 | The Dow Chemical Company | (S) Curing agent for epoxy resin formulations | (G) Branched phenolic hardener
P-02-0317 | 01/31/02 | 05/01/02 | The Dow Chemical Company | (S) Curing agent for epoxy resin formulations | (G) Branched phenolic hardener
P-02-0318 | 01/31/02 | 05/01/02 | The Dow Chemical Company | (S) Curing agent for epoxy resin formulations | (G) Branched phenolic hardener
P-02-0319 | 02/01/02 | 05/02/02 | Degussa Corporation | (S) Automotive fuel lines | (G) Imine modified polyamide
P-02-0320 | 02/01/02 | 05/02/02 | CBI | (S) Tackifying resin for adhesives formulations | (G) Polymer of phenol and substituted benzenes
P-02-0321 | 02/01/02 | 05/02/02 | CBI | (S) Raw material for use in fragrances for soaps, detergents, cleaners and other household Products | (G) Ethoxy alkene
P-02-0322 | 02/04/02 | 05/05/02 | Osram Sylvania Products Inc. | (G) Chemical intermediate (destructive use) | (S) Zinc, [ethandioato(2-)-.kappa.01,.kappa.02]-
P-02-0323 | 01/29/02 | 04/29/02 | Solutia Inc. | (S) Defoamer for water based industrial coatings | (G) Modified fatty acid ester
P-02-0324 | 01/28/02 | 04/28/02 | Lobeco Products, Inc. | (G) Coating additive for open, non-dispersive use | (G) Naphthalenesulfonic acid, alkyl derivs., sodium salt
P-02-0325 | 02/01/02 | 05/02/02 | 3M | (G) Coating | (G) Polyurethane prepolymer
P-02-0326 | 02/05/02 | 05/06/02 | CBI | (S) Chemically reacted intermediate | (S) Benzenamine, 2-nitro-4-(trifluoromethyl)-
P-02-0327 | 02/05/02 | 05/06/02 | CBI | (S) A polyol for making polyurethanes | (S) Soybean oil, epoxidized, reaction products with methanol
P-02-0328 | 02/04/02 | 05/05/02 | Hercules Incorporated | (G) Water stable concrete and cement additive; scale control agent for water treatment | (G) Acrylate copolymer
P-02-0329 | 02/05/02 | 05/06/02 | CBI | (G) Pigment dispersant | (G) Fatty acid polyethyleneimine condensate polymer
P-02-0330 | 02/05/02 | 05/06/02 | Amfine Chemical Corporation | (G) Thickening agent | (G) Polyalkylene glycol, alkyl ether, reaction products with diisocyanatoalkane and polyalkylene glycol
P-02-0331 | 02/05/02 | 05/06/02 | CBI | (S) Automotive base coates | (S) 1,3-benzenedicarboxylic acid, polymer with 5-amino-1,3,3-trimethylcyclohexanemethanamine, hexanedioic acid, 1,6-hexanediol, 3-hydroxy-2-(hydroxymethyl)-2-methylpropanoic acid and 1,1′-methylenebis [4-isocyanatocyclohexane], compd. with n,n-diethylethanamine
P-02-0332 | 02/05/02 | 05/06/02 | CBI | (G) Surface coating resin | (G) Epoxy siloxane resin
P-02-0333 | 02/06/02 | 05/07/02 | Aoc L.L.C. | (S) Polyester component for gelcoat resin for spray up of fiberglass reinforced and non-reinforced plastic parts | (S) 1,3-isobenzofurandione, hexahydro-, polymer with 2,2-dimethyl-1,3-propanediol, 2-ethyl-2-(hydroxymethyl)-1,3-propanediol, 2,5-furandione and 1,2-propanediol, 2-ethylhexyl ester
P-02-0334 | 02/05/02 | 05/06/02 | Solutia Inc. | (S) Tire cord adhesion promoter | (G) Modified phenolic resin
P-02-0335 | 02/05/02 | 05/06/02 | CBI | (S) Resin for coatings, inks and adhesives | (S) 2-propenoic acid, 2-methyl-, polymer with n-(1,1-dimethyl-3-oxobutyl)-2-propenamide, ethyl 2-propenoate and methyl 2-methyl-2-propenoate, ammonium salt
P-02-0336 | 02/05/02 | 05/06/02 | Wise Technical Marketing, Inc. | (S) Anti-corrosive pigment for solvent based paints and coatings | (G) Organic complexes comprising alkaline earth metals and phosphates
P-02-0337 | 02/08/02 | 05/09/02 | CBI | (G) Open, non-dispersive use | (G) Aromatic alkanoate
P-02-0338 | 02/11/02 | 05/12/02 | CBI | (G) Leather dyestuff | (G) Copper azo dye
P-02-0339 | 02/12/02 | 05/13/02 | CBI | (G) Amine synergists for coatings and inks | (G) Amino acrylate
P-02-0340 | 02/11/02 | 05/12/02 | Solutia Inc. | (S) Crosslinker for paper coatings | (G) Modified melamine formaldehyde resin
P-02-0341 | 02/11/02 | 05/12/02 | CBI | (G) Reaction modifier | (G) Partially propoxylated trifunctional polyamine
P-02-0342 | 02/11/02 | 05/12/02 | Solutia Inc. | (S) Curing resin for industrial coatings | (G) Polyester resin
P-02-0343 | 02/11/02 | 05/12/02 | CBI | (G) Open, non-dispersive use | (G) Aromatic acid diesters
P-02-0344 | 02/12/02 | 05/13/02 | Daychem Laboratories, Inc. | (S) Monomers used for making specialty polymers | (S) Silane, trichloro[(4-methoxyphenyl)methyl]-
P-02-0345 | 02/12/02 | 05/13/02 | CBI | (G) Textile lubricant | (G) Polyalkoxylated fatty acids
P-02-0346 | 02/12/02 | 05/13/02 | CBI | (G) An open non-dispersive use | (G) Alkyd resin
P-02-0347 | 02/12/02 | 05/13/02 | Custochem, Inc. | (S) Fiber lubricant denim finishing | (S) Fatty acids, C16-18-unsatd., branced and linear, esters with high-boiling C6-10 alkene hydroformylation Products

In table II, EPA provides the following information (to the extent that such information is not claimed as CBI) on the Notices of Commencement to manufacture received:

II. 36 Notices of Commencement From: 01/24/01 to 02/12/02
Case No. | Received Date | Commencement/Import Date | Chemical
P-00-0341 | 01/30/02 | 12/19/01 | (G) Urethane acrylate
P-00-0721 | 01/28/02 | 11/23/01 | (G) Flexible acrylic polymer
P-00-1032 | 01/30/02 | 12/20/01 | (G) Acrylated silica
P-00-1150 | 01/24/02 | 10/27/01 | (G) Poly(ester-ether)
P-00-1184 | 02/06/02 | 10/25/01 | (G) Phenol, polymer with formaldehyde, glycidyl ether, reaction Products with carbomonocylic carboxylic acid and hydroxy alkanoic acid homopolymer
P-01-0062 | 02/12/02 | 12/18/01 | (G) Substituted bicyclic olefin
P-01-0334 | 01/30/02 | 10/24/01 | (G) Polyether functional acrylic polymer
P-01-0424 | 01/28/02 | 10/11/01 | (G) Benzopyranone
P-01-0456 | 01/25/02 | 01/22/02 | (G) Inorganic layer polymer
P-01-0485 | 01/28/02 | 12/04/01 | (G) Acrylic solution polymer
P-01-0555 | 01/25/02 | 12/26/01 | (G) Hexanedioic acid, polymer with 1,4-butanediol, 2,2-dimethyl-1,3-propanediol, 1,6-hexanediol, oxyalkylpropanoic acid and 5-isocyanato-1-(isocyanatomethyl)-alkylcyclohexane, compounded with triethylamine
P-01-0574 | 01/24/02 | 10/16/01 | (G) Polycarbonate, polymer with polyester, substituted propanoic acid, a diamine and a diisocyanate, compounded with an amine
P-01-0676 | 02/05/02 | 11/07/01 | (G) Polyalkoxylated aromatic chromophore
P-01-0680 | 02/05/02 | 11/13/01 | (G) Polyalkoxylated intermediate
P-01-0689 | 01/28/02 | 11/16/01 | (G) Substituted alkyl ester acid
P-01-0710 | 02/05/02 | 10/14/01 | (G) Chromophore substituted polyoxyalkylene
P-01-0712 | 01/30/02 | 01/11/02 | (G) Chromophore substituted polyoxyalkylene tint
P-01-0720 | 02/12/02 | 11/27/01 | (G) Acrylic polymer resin
P-01-0729 | 01/31/02 | 01/17/02 | (G) Aminopolyamide wet strength resin
P-01-0736 | 02/12/02 | 01/18/02 | (G) Fatty alkylamines, reaction product with sodium chloracetate
P-01-0737 | 01/23/02 | 12/18/01 | (G) Aminopolyamide
P-01-0757 | 02/08/02 | 01/30/02 | (G) Alkyl carboxylic acid amine salt
P-01-0760 | 02/08/02 | 10/24/01 | (G) Tetraisopropyl titanate, polymer with ketone resin and amyl acid phosphate
P-01-0811 | 01/29/02 | 11/26/01 | (G) Modified hydrogenated rosin
P-01-0847 | 01/30/02 | 01/02/02 | (G) Styrene, polymer with alky methacrylates and an alkanedioic acid diester
P-01-0865 | 02/12/02 | 02/07/02 | (G) Ethylene amine aromatic epoxide adduct
P-01-0897 | 02/05/02 | 01/02/02 | (G) Phosphated polyester
P-01-0898 | 01/31/02 | 01/16/02 | (G) Grafted mercaptosiloxane(s)
P-01-0899 | 01/31/02 | 01/16/02 | (G) Grafted mercaptosiloxane(s)
P-01-0935 | 02/04/02 | 01/12/02 | (G) Aromatic thiophene derivative
P-02-0020 | 02/01/02 | 01/12/02 | (G) Ester wax
P-02-0033 | 02/04/02 | 01/25/02 | (G) Sodium salt of methacrylic acid, methylacrylate copolymer
P-98-0101 | 02/12/02 | 10/16/01 | (S) 7-oxabicyclo[4.1.0]heptane-3-carboxylic acid, methyl ester
P-98-1212 | 01/25/02 | 01/17/02 | (G) N-butyl, 2-ethylhexyl acrylate copolymer
P-99-0256 | 01/24/02 | 09/25/01 | (G) Phtalic anhydride, polymer with diethyleneglycol, aliphatic alcohol esters
P-99-0621 | 02/07/02 | 11/28/01 | (G) Isocyanate-functionalized prepolymer

List of Subjects

Environmental protection, Chemicals, Premanufacturer notices.

Dated: March 5, 2002.
Mary Louise Hewlett,
Acting Director, Information Management Division, Office of Pollution Prevention and Toxics.

[FR Doc. 02-6616 Filed 3-18-02; 8:45 am]

BILLING CODE 6560-50-S